DEPARTMENT OF THE INTERIOR

Fish and Wildlife Service

[FWS-R2-ES-2024-N020; FXES11130200000-245-FF02ENEH00]

Endangered Wildlife; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act (ESA) prohibits certain activities that may impact endangered species, unless a Federal permit allows such activity. The ESA also requires that we invite public comment before issuing these permits.

DATES: To ensure consideration, please submit your written comments by May 1, 2024.

ADDRESSES:

Document availability: Request documents from the contact in the FOR FURTHER INFORMATION CONTACT section.

Comment submission: Submit comments by email to fw2_te_permits@fws.gov. Please specify the permit application you are interested in by number (e.g., Permit Record No. PER1234567).

FOR FURTHER INFORMATION CONTACT: Marty Tuegel, Supervisor, Environmental Review Division, by phone at 505-248-6651, or via email at marty_tuegel@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

With some exceptions, the Endangered Species Act of 1973, as amended (ESA; 16 U.S.C. 1531 et seq.), prohibits activities that constitute take of listed species unless a Federal permit is issued that allows such activity. The ESA's definition of “take” includes hunting, shooting, harming, wounding, or killing, and also such activities as pursuing, harassing, trapping, capturing, or collecting.

The ESA and our implementing regulations in the Code of Federal Regulations (CFR) at title 50, part 17, provide for issuing such permits and require that we invite public comment before issuing permits for activities involving listed species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Our release of documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the permit record number when submitting comments.

Permit record No. | Applicant | Species | Location | Activity | Type of take | Permit action
PER6195945 | Wildlife World Zoo, Inc.; Litchfield Park, Arizona | Kemp's ridley sea turtle (Lepidochelys kempii) | Arizona | Educational display | Harass, harm | New.
PER5348794 | Vaughn, Caryn; Norman, Oklahoma | Ouachita rock pocketbook (Arcidens wheeleri), scaleshell mussel (Leptodea leptodon), winged mapleleaf (Quadrula fragosa) | Arkansas, Missouri, Oklahoma | Presence/absence surveys | Harass, harm | New.
PER5348793 | Cantu, Eric; Edinburg, Texas | Texas hornshell (Popenaias popeii) | Texas | Presence/absence surveys | Harass, harm | New.
PER5530131 | Martin, Keith; Claremore, Oklahoma | Indiana bat (Myotis sodalis), gray bat (Myotis grisescens), Ozark big-eared bat (Corynorhinus (=Plecotus) townsendii ingens), northern long-eared bat (Myotis septentrionalis) | Arkansas, Kansas, Missouri, Oklahoma | Presence/absence surveys | Harass, harm | Renew.
PER5699079 | McLean, Jesse; Dallas, Texas | Golden-cheeked warbler (Setophaga chrysoparia) | Texas | Presence/absence surveys | Harass, harm | Renew.
PER6816223 | Gonzales, Kelly; Houston, Texas | Gulf coast jaguarundi (Puma yagouaroundi cacomitli), ocelot (Leopardus (=Felis) pardalis), northern aplomado falcon (Falco femoralis septentrionalis) | Arizona, New Mexico, Texas | Presence/absence surveys | Harass, harm | Renew/amend.
PER7135821 | Tulsa District U.S. Army Corps of Engineers; Tulsa, Oklahoma | Indiana bat (Myotis sodalis), gray bat (Myotis grisescens), Ozark big-eared bat (Corynorhinus (=Plecotus) townsendii ingens) Ouachita rock pocketbook (Arcidens wheeleri), winged mapleleaf (Quadrula fragosa) | Kansas, Oklahoma | Presence/absence surveys, handle, tag, salvage, bio-sample, band | Capture, harass, harm | Renew.
PER8668105 | Center of Excellence for Hazardous Materials Management; Carlsbad, New Mexico | Lesser prairie-chicken (Tympanuchus pallidicinctus) | New Mexico | Presence/absence surveys, lek tours | Harass, harm | New.
PER6353114 | Solari, Whitney; Bryan, Texas | Golden-cheeked warbler (Setophaga chrysoparia) | Texas | Presence/absence surveys | Harass, harm | New.
PER7248560 | Raven Environmental Services, Inc.; Huntsville, Texas | Red-cockaded woodpecker (Picoides borealis) | Louisiana, Texas | Presence/absence surveys, nest monitoring, band, sexing, translocation, artificial cavity installation | Capture, harass, harm | Renew/amend.
PER7365932 | Kutz, Julie; Albuquerque, New Mexico | Southwestern willow flycatcher (Empidonax traillii extimus) | New Mexico | Presence/absence surveys | Harass, harm | Renew.
PER7032540 | Blankenship, Ryan; Duncanville, Texas | Gray bat (Myotis grisescens), Ozark big-eared bat (Corynorhinus (=Plecotus) townsendii ingens), northern long-eared bat (Myotis septentrionalis), Indiana bat (Myotis sodalis), lesser prairie-chicken (Tympanuchus pallidicinctus), fountain darter (Etheostoma fonticola), Neosho mucket (Lampsilis rafinesqueana), Ouachita rock pocketbook (Arcidens wheeleri), scaleshell mussel (Leptodea leptodon), winged mapleleaf (Quadrula fragosa) | Alabama, Arkansas, Colorado, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New Mexico, New York, North Carolina, North Dakota, Ohio, Oklahoma, Pennsylvania, Rhode Island, South Carolina, South Dakota, Tennessee, Texas, Virginia, West Virginia, Vermont, Wisconsin, Wyoming | Presence/absence surveys, handle, tag, salvage, bio-sample, band | Capture, harass, harm | New.
PER8778179 | Baer Engineering and Environmental Consulting, Inc.; Austin, Texas | Golden-cheeked warbler (Setophaga chrysoparia) | Texas | Presence/absence surveys | Harass, harm | Amend.
PER9199896 | Bey, Trinity; Boerne, Texas | Golden-cheeked warbler (Setophaga chrysoparia) | Texas | Presence/absence surveys | Harass, harm | Renew.
PER8778158 | Blackland Environmental, LLC.; Garden Ridge, Texas | Golden-cheeked warbler (Setophaga chrysoparia), red-cockaded woodpecker (Picoides borealis), Houston toad (Bufo houstonensis) | Louisiana, Texas | Presence/absence surveys | Harass, harm | New.
PER8668106 | Hall, Ellen; Fort Worth, Texas | Gray bat (Myotis grisescens), Ozark big-eared bat (Corynorhinus (=Plecotus) townsendii ingens), northern long-eared bat (Myotis septentrionalis), Indiana bat (Myotis sodalis) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Texas, Vermont, Virginia, West Virginia, Wisconsin, Wyoming | Presence/absence surveys, handle, tag, salvage, bio-sample, band | Capture, harass, harm | New.
PER9200393 | SeaWorld of Texas; San Antonio, Texas | Kemp's ridley sea turtle (Lepidochelys kempii), hawksbill sea turtle (Eretmochelys imbricata) | Texas | Rehabilitate, educational display | Capture, harass, harm | Renew.
PER8748209 | University of Texas Austin; Austin, Texas | Big Bend gambusia (Gambusia gaigei) | Texas | Presence/absence surveys, trap, anesthetize | Capture, harass, harm | New.
PER9229906 | Gluesenkamp, Andrew; Driftwood, Texas | Barton Springs salamander (Eurycea sosorum), Austin blind salamander (Eurycea waterlooensis), Peck's Cave amphipod (Stygobromus (=Stygonectes) pecki), Comal Springs riffle beetle (Heterelmis comalensis), Comal Springs dryopid beetle (Stygoparnus comalensis), Texas blind salamander (Eurycea rathbuni), Mexican blindcat (Prietella phreatophila) | Texas | Presence/absence surveys, collect, voucher specimen | Capture, harass, harm, kill | New.
PER9229948 | Bureau of Reclamation—Boulder City; Boulder City, Nevada | Southwestern willow flycatcher (Empidonax traillii extimus), Yuma Ridgway's rail (Rallus obsoletus yumanensis) | Arizona, California | Presence/absence surveys, band, tag | Capture, harass, harm | Amend.
PER9229950 | Burns, Jodie; Bentonville, Arkansas | Red-cockaded woodpecker (Picoides borealis) | Alabama, Arkansas, Florida, Georgia, Louisiana, Mississippi, North Carolina, South Carolina, Oklahoma, Texas, Virginia | Presence/absence surveys | Harass, harm | Amend.

Public Availability of Comments

All comments we receive become part of the public record associated with this action. Requests for copies of comments will be handled in accordance with the Freedom of Information Act, National Environmental Policy Act, and Service and Department of the Interior policies and procedures. Before including your address, phone number, email address, or other personal identifying information in your comment, you should be aware that your entire comment—including your personal identifying information—may be made publicly available at any time. While you can ask us to withhold your personal identifying information from public review, we cannot guarantee that we will be able to do so. All submissions from organizations or businesses, and from individuals identifying themselves as representatives or officials of organizations or businesses, will be made available for public disclosure in their entirety.

Authority

We provide this notice under section 10 of the Endangered Species Act (16 U.S.C. 1531 et seq.).

Amy Lueders,
Regional Director, Southwest Region.

[FR Doc. 2024-06830 Filed 3-29-24; 8:45 am]

BILLING CODE 4333-15-P